DEPARTMENT OF AGRICULTURE

Agricultural Marketing Service

[Document Number AMS-FV-14-0016, FV-14-326]

United States Standards for Grades of Canned Baked Beans

AGENCY: Agricultural Marketing Service, USDA.

ACTION: Notice and request for comments.

SUMMARY: The Agricultural Marketing Service (AMS) of the Department of Agriculture (USDA) proposes to revise the United States Standards for Grades of Canned Baked Beans. AMS is proposing to replace process-specific language “Product description” in the standard with language reflective of current canned baked bean manufacturing practices. Additionally, AMS proposes separating the canned dried beans, canned pork and beans, and canned baked beans grade standards from one shared standard document into three separate standard documents. These changes would bring the grade standards for canned baked beans in line with the present quality levels being marketed today and would provide guidance in the effective use of these products.

DATES: Comments must be submitted on or before October 19, 2015.

ADDRESSES: Written comments may be submitted via the Internet: http://www.regulations.gov; by email brian.griffin@ams.usda.gov; or by mail to Brian E. Griffin, Standardization Branch, Specialty Crops Inspection Division, Fruit and Vegetable Program, Agricultural Marketing Service, U.S. Department of Agriculture, 1400 Independence Avenue SW., Room 0709, South Building; STOP 0247, Washington, DC 20250; fax: (202) 690-1527. Copies of the proposed revised United States Standards for Grades of Canned Baked Beans are available at the addresses cited above and at the AMS Web site at: http://www.ams.usda.gov/scihome. All comments should reference the document number, date, and page number of this issue of the Federal Register. All comments will be posted without change, including any personal information provided. All comments submitted in response to this notice will be included in the public record and will be made available to the public on the Internet via http://www.regulations.gov. Comments will be made available for public inspection at the above address during regular business hours or can be viewed at: http://www.regulations.gov.

FOR FURTHER INFORMATION CONTACT: Contact Brian E. Griffin at the address above, phone (202) 720-5021, or fax (202) 690-1527.

SUPPLEMENTARY INFORMATION: AMS is proposing to revise the U.S. Standards for Grades of Canned Baked Beans using the procedures that appear in part 36 of Title 7 of the Code of Federal Regulations (7 CFR part 36). Section 203(c) of the Agricultural Marketing Act of 1946 (7 U.S.C. 1621-1627), as amended, directs and authorizes the Secretary of Agriculture “to develop and improve standards of quality, condition, quantity, grade, and packaging, and recommend and demonstrate such standards in order to encourage uniformity and consistency in commercial practices.” AMS is committed to carrying out this authority in a manner that facilitates the marketing of agricultural commodities and makes copies of official standards available upon request. The U.S. standards for grades of fruits and vegetables that are not connected with Federal marketing orders or U.S. import requirements no longer appear in the Code of Federal Regulations, but are maintained by USDA, AMS, Fruit and Vegetable Program, and are available on the Internet at: http://www.ams.usda.gov/scihome.

Background: In September 2013, AMS received a petition from a professor emeritus in food science from Michigan State University asking AMS to consider revising the current U.S. grade standards for canned baked beans to account for advances in industry processing technology. The petitioner requested the removal of the following text from the text of the Product description: “The product is prepared by washing, soaking, and baking by the application of dry heat in open or loosely covered containers in a closed oven at atmospheric pressure for sufficient prolonged time to produce a typical texture and flavor” and replacing it with the following text, “The product is prepared by heating beans and sauce in a closed or open container for a period of time sufficient to provide texture, flavor, color and consistency attributes that are typical for this product.”

AMS believes the text “washing, soaking” needs to be retained and proposes the following revision to the text of the Product description: “The product is prepared by washing, soaking, and heating beans and sauce in a closed or open container for a period of time sufficient to provide texture, flavor, color, and consistency attributes that are typical for this product.”

A copy of the petitioner's request and supporting documentation is located on the Internet at http://www.regulations.gov along with the current U.S. Standards for Grades of Canned Baked Beans together with the revisions proposed in this notice. The proposed revisions to these grade standards would provide a common language for trade and better reflect the current marketing of canned baked beans.

Additional proposed changes to the U.S. Standards for Grades of Canned Baked Beans include separating the canned dried beans grade standards, canned pork and beans grade standards, and the canned baked beans grade standards into individual standard documents. These grade standards are currently recognized as three individual standards, but are contained in one document. No changes to content are recommended at this time for the canned dried beans or canned pork and beans grade standards.

In December 2013, AMS developed a discussion draft of the revised canned baked bean grade standards that included the proposed changes. This draft was distributed to the U.S. Dry Bean Council (USDBC), a trade association representing U.S. growers, shippers, processors, packagers, and canners of dry beans; and to the Grocery Manufacturers Association (GMA), a trade association of the food industry. Members of the USDBC and GMA reviewed the discussion draft. Responding members supported the proposed changes to the Product description, and the proposed change to separate the canned dried beans, canned pork and beans, and the canned baked beans grade standards into the documents.

Additionally, AMS submitted the discussion draft to the U.S. Food and Drug Administration (FDA) for guidance on the proposed changes. The FDA expressed concern over the removal of the term “baking” from the process while continuing to use the term “baked” as part of the name of the food. The FDA did not object to a name that appropriately describes the food as per the regulations in 21 CFR 101.3.

AMS discussed further FDA's concerns with the petitioner. A second discussion draft was developed and submitted to the FDA and received a positive response. The second discussion draft was then submitted to the aforementioned industry groups for a second round of comments. Both groups responded positively to the changes.

The proposed revised text for Section 52.6461 Product description reads as follows: “The product is prepared by washing, soaking, and baking beans and sauce through the application of heat in a closed or open container for a period of time sufficient to provide texture, flavor, color, and consistency attributes that are typical for this product.”

Agricultural Marketing Service

AMS is soliciting comments on the proposed revision of the U.S. Standards for Grades of Canned Baked Beans. In particular, AMS would welcome comments and information regarding the possible impact on processors and growers. Further details are provided in the petition and are available from Brian E. Griffin at the previously mentioned address in the FOR FURTHER INFORMATION CONTACT section or can be found on the Internet at http://www.regulations.gov. This notice provides for a 60-day comment period for interested parties to comment on the proposed revision of the U.S. Standards for Grades of Canned Baked Beans.

Authority: 7 U.S.C. 1621-1627.

Dated: August 13, 2015.
Rex A. Barnes,
Associate Administrator, Agricultural Marketing Service.

[FR Doc. 2015-20445 Filed 8-18-15; 8:45 am]

BILLING CODE P